DEPARTMENT OF TRANSPORTATION

Federal Aviation Administration

Twenty Seventh RTCA SC-214 Standards for Air Traffic Data Communications Services Plenary

AGENCY: Federal Aviation Administration (FAA), U.S. Department of Transportation (DOT).

ACTION: Twenty Seventh RTCA SC-214 Standards for Air Traffic Data Communications Services Plenary.

SUMMARY: The FAA is issuing this notice to advise the public of a meeting of Twenty Seventh RTCA SC-214 Standards for Air Traffic Data Communications Services Plenary.

DATES: The meeting will be held April 17, 2018 9:00 a.m.-5:00 p.m.

ADDRESSES: The meeting will be held Virtually: https://rtca.webex.com/rtca/j.php?MTID=m93f0cde80b9c1d96d2df6bdfb9aee7c9, Meeting number (access code): 630 124 113, Meeting password: vJyisXs8.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Twenty Seventh RTCA SC-214 Standards for Air Traffic Data Communications Services Plenary. The agenda will include the following:

1. Welcome and Administrative Remarks

2. Introductions

3. Agenda Review

4. Previous Meeting Minutes Review

5. Review DO-281C/ED-92C for Final Review and Comment (FRAC)/Open Consultation Comments (OC) Release

6. Review DO-224D for FRAC Release

7. Decision to Approve Release of DO-281C/ED-92C for FRAC/OC

8. Decision to Approve Release of DO-224D for FRAC

9. Schedule Update

10. Date, Place and Time of Next Meeting

11. Other Topics

12. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on March 13, 2018.
Michelle Swearingen,
Systems and Equipment Standards Branch, AIR-6B0, Policy and Innovation Division, AIR-600, Federal Aviation Administration.

[FR Doc. 2018-05343 Filed 3-15-18; 8:45 am]

BILLING CODE 4910-13-P